SMALL BUSINESS ADMINISTRATION

[Declaration of Disaster #3595]

State of Michigan (Amendment #2)

In accordance with a notice received from the Department of Homeland Security—Federal Emergency Management Agency—effective August 10, 2004, the above numbered declaration is hereby amended to reestablish the incident period as beginning on May 20, 2004 and continuing through and including June 8, 2004.

All other information remains the same, i.e., the deadline for filing applications for physical damage is August 30, 2004, and for economic injury the deadline is March 30, 2005.

(Catalog of Federal Domestic Assistance Program Nos. 59002 and 59008).

Dated: August 11, 2004.
Cheri L. Cannon,
Acting Associate Administrator for Disaster Assistance.

[FR Doc. 04-18881 Filed 8-17-04; 8:45 am]

BILLING CODE 8025-01-P